DEPARTMENT OF STATE

[Public Notice: 7213]

Notice Convening an Accountability Review Board To Examine the Circumstances of the Death of Three DoD Personnel Assigned to the U.S. Embassy's Office of Defense Representative Pakistan (ODRP) on February 3, 2010

Pursuant to Section 301 of the Omnibus Diplomatic Security and Antiterrorism Act of 1986, as amended (22 U.S.C. 4831 et seq.), the Secretary of State has determined that a recent attack on three Department of Defense personnel assigned to the U.S. Embassy's Office of Defense Representative Pakistan (ODRP) involved loss of life that was at or related to a U.S. mission abroad. Therefore, the Secretary has convened an Accountability Review Board to examine the facts and the circumstances of the attacks and to report to me such findings and recommendations as it deems appropriate.

The Secretary has appointed Joseph Lake, a retired U.S. ambassador, as Chair of the Board. He will be assisted by Robert Bryson, Lewis Atherton, Barbara Martin, Wayne Rychak and by the Executive Secretary to the Board, Linda Hartley. They bring to their deliberations distinguished backgrounds in government service and/or the private sector.

The Board will submit its conclusions and recommendations to Secretary Clinton within 60 days of its first meeting, unless the Chair determines a need for additional time. Appropriate action will be taken and reports submitted to Congress on any recommendations made by the Board.

Anyone with information relevant to the Board's examination of these incidents should contact the Board promptly at (202) 647-5204 or send a fax to the Board at (202) 647-3282.

This notice shall be published in the Federal Register.

Dated: October 8, 2010.
Patrick F. Kennedy,
Under Secretary for Management.

[FR Doc. 2010-26791 Filed 10-21-10; 8:45 am]

BILLING CODE 4710-35-P